DEPARTMENT OF HEALTH AND HUMAN SERVICES

Request for Information (RFI) for Consumer Health Initiative To Develop Collaborations That Produce Evidence-Based Informatics Resources and Products¹

¹ Products include interventions, services, technology tools, and systems.

The National Cancer Institute, Division of Cancer Control and Population Sciences, Behavioral Research Program requests information to expand the 2009 Consumer Health Summit post-conference activities. Information of interest includes: Current journal articles, funding opportunities, and product development plans, which will be shared publicly on http://www.InformaticsforConsumerHealth.org.

Contributions should be targeted toward informatics that support behavior change as outlined in the Office of the National Coordinator for Health Information Technology's (ONC) Meaningful Use Matrix (http://healthit.hhs.gov) with the end-goal of dissemination into public, clinical and/or home settings. Content areas may include, but are not limited to, care coordination, eHealth tools and strategies, early prevention and detection, electronic health records, clinical decision support, health care disparities, and telehealth/telemedicine.

The purpose of this request is to solicit ongoing information from commercial Information Technology (IT), government, health care, education, research, and advocacy organizations on the state of informatics for consumer health. The overarching goal is to promote transparency, stimulate original development and partnerships, and minimize overlap in projects in the consumer health arena.

DATES: Comments should be submitted by February 1, 2011.

ADDRESSES: Individuals, groups and organizations interested in contributing may submit information through an electronic document online http://informaticsforconsumerhealth.org/index.php?q=collaborate, or via e-mail contact@InformaticsforConsumerHealth.org. Information will be made publicly available; trade secrets should not be submitted. A response to this RFI will not be viewed as a binding commitment to develop or pursue the ideas discussed. NCI will not pay for information provided under this RFI. This RFI is not accepting applications for financial assistance or financial incentives. NCI has no obligation to respond to those who submit comments or questions, and/or give any feedback on any decision made based on the comments received.

FOR FURTHER INFORMATION CONTACT: Connie Dresser, RDPH, LN, Program Director, Health Communication and Informatics Research Branch, Behavioral Research Program, Division of Cancer Control & Population Sciences, National Cancer Institute, 6130 Executive Blvd, EPN-Rm. 4072, Bethesda, MD 20892; cd34b@nih.gov.

Background: In a report released in 2009, the National Research Council warned that efforts to invest in health IT would be fruitless unless they were aimed at providing better cognitive support for physicians, patients and their caregivers. As part of an inter-agency effort to increase the quality and utilization of evidence-based consumer products for integration into health information exchange (HIE) networks, the November 2009 Informatics for Consumer Health Summit on Communication, Collaboration, & Quality was convened. This federally sponsored summit aimed to: (1) Convene leaders across industry to open a dialogue for improving health care quality through enhanced behavioral support for consumers across the health care spectrum, (2) develop products, including a journal supplement and alert service, and (3) foster collaborations to integrate evidence-based commercial and non-commercial products.

Following the summit, an online hub of consumer health-related resources (http://www.InformaticsforConsumerHealth.org) was created to assist public and private collaborators in the development and dissemination of evidence-based, user-centered products that will aid providers in clinical settings and promote positive health behaviors among consumers. The site includes evidence-based journal articles, Web articles, expert guest blog posts, and funding opportunities.

Dated: October 12, 2010.
Connie Dresser,
Program Director, Health Communication and Informatics Research Branch, Behavioral Research Program, DCCPS, National Cancer Institute.

[FR Doc. 2010-26360 Filed 10-19-10; 8:45 am]

BILLING CODE 4140-01-P